DEPARTMENT OF THE INTERIOR

National Park Service

[NPS-WASO-NAGPRA-10772; 2200-1100-665]

Notice of Inventory Completion: San Diego Museum of Man, San Diego, CA

AGENCY: National Park Service, Interior.

ACTION: Notice.

SUMMARY: The San Diego Museum of Man has completed an inventory of human remains in consultation with the appropriate Indian tribe, and has determined that there is a cultural affiliation between the human remains and a present-day Indian tribe. Representatives of any Indian tribe that believes itself to be culturally affiliated with the human remains may contact the San Diego Museum of Man. Repatriation of the human remains to the Indian tribe stated below may occur if no additional claimants come forward.

DATES: Representatives of any Indian tribe that believes it has a cultural affiliation with the human remains should contact the San Diego Museum of Man at the address below by September 4, 2012.

ADDRESSES: Philip Hoog, San Diego Museum of Man, 1350 El Prado, Balboa Park, San Diego, CA 92101, telephone (619) 239-2001, ext. 43.

SUPPLEMENTARY INFORMATION: Notice is here given in accordance with the Native American Graves Protection and Repatriation Act (NAGPRA), 25 U.S.C. 3003, of the completion of an inventory of human remains in the possession of the San Diego Museum of Man. The human remains were removed from the Paa-ko Pueblo site in Bernalillo County, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the San Diego Museum of Man professional staff in consultation with representatives of the Pueblo of Santa Ana, New Mexico.

History and Description of the Remains

From 1935 to 1937, human remains representing, at minimum, 209 individuals were removed from the Paa-ko Pueblo site (LA 162) in Bernalillo County, NM. The Paa-ko skeletal collection was acquired through field excavations under the direction of Edgar L. Hewett along with the Museum of New Mexico and the University of New Mexico, working in cooperation with the Federal Works Progress Administration. The Paa-ko skeletal collection was sent to Spencer Rogers, the Scientific Director of the San Diego Museum of Man, in 1950. Dr. Rogers moved a portion of these remains to San Diego State College for research. Another portion of the Paa-ko skeletal collection was housed at the University of Southern California. When Dr. Rogers retired from San Diego State College in 1971, both collections were returned to the San Diego Museum of Man. No known individuals were identified. No associated funerary objects are present.

Of the 209 individuals in the Paa-ko collection, 117 are sub-adults and 92 are adults. In the total collection, 191 sets of remains are of prehistoric origin and 18 sets of remains are of historic origin. The Paa-ko site is believed to have had two periods of occupation, from approximately A.D. 1300 to 1425 and then again from approximately A.D. 1525 to 1626 or later, the latter period coinciding with the arrival of the Spanish in this region. Documented evidence, material culture, and ethnographical accounts show that the inhabitants of the Paa-ko Pueblo site (LA 162), during both periods of its occupation, were members of the early Tamayame people, ancestors to the current Native American people of the Pueblo of Santa Ana.

Oral tradition of the modern Tamayame, or people of the Pueblo of Santa Ana, ethnographical accounts, and documented archaeological evidence reasonably suggest a line of continued shared group identity between the early archaic peoples of the Southwest, the later Anasazi (or Ancestral Puebloan or Hisatsinom), the Keres people and their branch of early Tamayame (people of Tamaya, a.k.a. Santa Ana) people, and the modern Native American inhabitants of the Pueblo of Santa Ana.

Determinations Made by the San Diego Museum of Man

Officials of the San Diego Museum of Man have determined that:

• Pursuant to 25 U.S.C. 3001(9), the human remains described in this notice represent the physical remains of 209 individuals of Native American ancestry.

• Pursuant to 25 U.S.C. 3001(2), there is a relationship of shared group identity that can be reasonably traced between the Native American human remains and the Pueblo of Santa Ana, New Mexico.

Additional Requestors and Disposition

Representatives of any Indian tribe that believes itself to be culturally affiliated with the human remains should contact Philip Hoog, San Diego Museum of Man, 1350 El Prado, Balboa Park, San Diego, CA 92101, telephone (619) 239-2001, ext. 43 before September 4, 2012. Repatriation of the human remains to the Pueblo of Santa Ana, New Mexico, may proceed after that date if no additional claimants come forward.

The San Diego Museum of Man is responsible for notifying the Pueblo of Santa Ana, New Mexico that this notice has been published.

Dated: July 5, 2012.
Mariah Soriano,
Acting Manager, National NAGPRA Program.

[FR Doc. 2012-18938 Filed 8-1-12; 8:45 am]

BILLING CODE 4312-50-P